DEPARTMENT OF THE INTERIOR

Bureau of Indian Affairs

Proposed Finding Against Federal Acknowledgment of the Steilacoom Tribe of Indians

AGENCY: Bureau of Indian Affairs, Interior.

ACTION: Notice.

SUMMARY: Pursuant to 25 CFR 83.10(h), notice is hereby given that the Assistant Secretary proposes to determine that the Steilacoom Tribe of Indians, c/o Mrs. Joan Ortez, P.O. Box 419, Steilacoom, Washington 98388 does not exist as an Indian tribe within the meaning of Federal law. This notice is based on a determination that the tribe does not satisfy all of the criteria set forth in 25 CFR 83.7 and, therefore, does not meet the requirements for a government-to-government relationship with the United States.

DATES: As provided by 25 CFR 83.10(i), any individual or organization wishing to challenge the proposed finding may submit factual or legal arguments and evidence to rebut the evidence relied upon. This material must be submitted within 180 calendar days from the date of publication of this notice. As stated in the regulations, 25 CFR 83.10(i), interested and informed parties who submit arguments and evidence to the Assistant Secretary must also provide copies of their submissions to the petitioner. Names and addresses of commenters on the proposed finding are generally available under the Freedom of Information Act.

ADDRESSES: Comments on the proposed finding and/or requests for a copy of the report of evidence should be addressed to the Office of the Assistant Secretary—Indian Affairs, 1849 C Street, N.W., Washington, D.C. 20240, Attention: Branch of Acknowledgment and Research. Mail Stop 4660-MIB.

FOR FURTHER INFORMATION CONTACT: R. Lee Fleming, Chief, Branch of Acknowledgment and Research, (202) 208-3592.

SUPPLEMENTARY INFORMATION: This notice is published in the exercise of authority delegated by the Secretary of the Interior to the Assistant Secretary—Indian Affairs by 209 DM 8.

The Steilacoom Tribe of Indians (STI) asserted that it was eligible for consideration under 25 CFR 83.8 as the continuation of the Steilacoom band which signed the Treaty of Medicine Creek on December 24, 1854, and that the Steilacoom were recognized as a tribe by the Federal Government in the 1930's. The evidence did not show that the STI descends from the “Steilacoom” group which was a party to the treaty. In addition, the evidence demonstrated that the Steilacoom organizations of the 1920's and 1930's were dealt with only for the purpose of prosecuting claims against the Federal Government. Therefore, because the petitioner did not provide substantial evidence of unambiguous prior Federal acknowledgment, the STI petition has been evaluated under the provisions of 25 CFR 83.7. The STI meets criteria 83.7(d), 83.7(f), and 83.7(g), but does not meet 83.7(a), 83.7(b), 83.7(c), and 83.7(e).

Criterion 83.7(a) requires that the petitioner have been identified as an American Indian entity on a substantially continuous basis since 1900. For the period from 1900 through 1925, the evidence did not show any external identifications of an existing Steilacoom Indian entity. In 1925, seven people described in BIA minutes as “Steilacoom Indians” attended a claims meeting. The claims group appeared in BIA records through the late 1930's. There was also an effort in the later 1930's to organize a Steilacoom Tribe of Public Domain Indians of Washington under the IRA. There were no Federal identifications of any Steilacoom entity between 1941 and 1951. Federal identifications of the claims organization resumed in 1951 and continued until the final judgment award in 1974. In 1953, it was included on the list of groups with which the BIA discussed proposed termination legislation.

In 1952, a longtime local resident of the Steilacoom, Washington, area, testified on behalf of the claims organization that she could still identify a Steilacoom tribe. During the 1950's and 1960's, the State of Washington Department of Fisheries recognized the BIA “blue cards” issued to persons listed on the rolls of claims organizations. On this basis, an official of the Washington State Game Department stated in 1971 that he considered the STI as a bonafide tribe representing a continuation of the historical Steilacoom band.

The evidence in the record for this proposed finding did not include any other identifications of an existing Steilacoom entity in local newspapers, by local or regional historians, or in scholarly works for the period prior to the 1970's. In February 1974, the Steilacoom Indian Tribe incorporated within the State of Washington as a nonprofit organization. From 1974 to the present, the Steilacoom Tribe of Indians has regularly been identified as a non-recognized Indian tribe by Federal and State agencies, in newspaper articles, by local historians, and by scholars.

The evidence was not adequate to demonstrate that STI has been identified as an American Indian entity on a substantially continuous basis for the entire period since 1900. The STI does not meet criterion 83.7(a).

Criterion 83.7(b) requires that a predominant portion of the petitioning community comprise a distinct community and have existed as a community from historical times until the present. The petitioner did not demonstrate any of the five forms of evidence listed under 83.7(b)(2) at any point in time since the beginning of sustained contact with non-Indian settlers.

Section 83.7(b)(1)(iii) states that a petitioner may show significant rates of informal social interaction which exist broadly among the members of a group. In order for this to occur, there must first be a group. The evidence showed that the ancestors of the current STI membership did not, historically, constitute a group whose history could be traced through time and place. The petitioner’s ancestors in the 19th century consisted of several different categories of unconnected people (see discussion below under criterion 83.7(e)).

The evidence did not demonstrate that persons from any one of these different categories regularly interacted either with persons from other categories or with persons identified in the historical record as Steilacoom Indians (83.7(b)(1)(ii)). The petitioner did not show significant rates of marriage within the group at any time since record keeping began in the mid-19th century (83.7(b)(1)(i)). From first sustained contact with non-Indians until the present, the ancestral families and current members of the STI have intermarried primarily with non-Indians.

There was no evidence that there was a significant degree of shared or cooperative labor or other economic activity among STI ancestral families in the past (83.7(b)(1)(iv)). Participation by STI members in commercial fishing in the 1970's was by invitation of federally acknowledged tribes, and did not involve a significant degree of shared or cooperative labor among the STI membership. For the modern period, the evidence showed that there was intra family social and economic interaction, but little interfamily association. The petition contained no evidence of patterns of institutionalized discrimination or other social distinctions by nonmember either in the past or in the present (83.7(b)(1)(v)). There was no evidence that the ancestral families or current members of the STI had any shared sacred or ritual activity, or cultural patterns, that encompassed most of the groups (83.7(b)(1)(vi) and (vii)).

Section 83.7(b)(1)(viii) lists one possible form of evidence for community as: “[t]he persistence of a named, collective Indian identity continuously over a period of more than 50 years, notwithstanding changes in name.” There was no named, collective identity between 1854 and 1925. At different times during the 1925-1941 period, two Steilacoom claims organizations existed. There are no membership lists of these organizations. Therefore, it was not possible to determine to what extent, if any, the petitioner’s ancestors identified with either or both, or to what extent the membership of the earlier period overlapped with that of the post-1951 group, the petitioner. Regardless, these organizations did not continue for a period of 50 years. There was an approximate 65 percent overlap between the 1950’s lists and the lists for the group from the mid-1970’s to the present. The STI incorporated in 1974 and has existed continuously since that date. The identity asserted by the formal organization of a group is entitled to weight as representing the views of the membership. However, the existence of a formal organization is not in itself sufficient evidence to show collective group identity.

The evidence in the record was not sufficient to demonstrate the existence of community from historical times to the present. The STI does not meet criterion 83.7(b).

Criterion 83.7(c) requires that the petitioner has maintained political influence or authority over its members as an autonomous entity from historical times until the present. The evidence in the record does not show the post-treaty existence of an autonomous Steilacoom band. The STI petition did not present the types of evidence described under 83.7(c)(2). The evidence in the record under 83.7(c)(1) did not demonstrate the exercise of political authority of influence over the petitioner’s ancestors as a group, whether as members of a “Steilacoom” entity or any other entity. The individual extended ancestral families of the modern STI, throughout the second half of the 19th century and first quarter of the 20th century were not connected with one another in such a way as to permit any kind of bilateral political relationship.

Because there was no identifiable entity in the later 19th and early 20th centuries, there were no identifiable group leaders or governing bodies prior to 1925. In so far as the petition mentioned individual 19th century Steilacoom Indians as leaders, there was no evidence that most STI ancestral families associated with them. In so far as it mentioned identified STI ancestors as leaders, there was no evidence that their influence extended beyond their own family line.

There was very little evidence concerning mobilization of resources from members of family lines ancestral to the STI for any common purposes from the mid-19th century until the formation of the Steilacoom claims organization in 1925. Since the membership of the Steilacoom claims organization in the 1920’s and 1930’s is unknown, there was no evidence to show the level of support provided by its members even for this limited function. There was no data indicating that there were any common purposes among the STI ancestral families other than the prosecution of claims prior to the development of concern over fishing rights in the 1950’s.

For the modern period, approximately 30 out of 612 members attend meetings. Other STI activities such as work toward Federal acknowledgment and representational and educational activities directed at the wider community have been conducted primarily by a small group of members. There was very little evidence concerning communication between leaders and members and the minutes provided little data concerning internal conflicts, if any, and their resolution. The STI does not meet criterion 83.7(c).

Criterion 83.7(d) requires that the petitioner provide copies of the group’s current constitution and by-laws. The STI meets criterion 83.7(d).

Criterion 83.7(e) states that the petitioner’s membership must consist of individuals who descend from a historical Indian tribe or from historical Indian tribes which combined and functioned as a single autonomous political entity. Of the 612 STI members, only three from one nuclear family have been documented as descendants of persons who, in the 19th century and first quarter of the 20th century, were identified as Steilacoom Indians. The 91 per cent of the current STI members for whom the petitioner submitted data descend primarily from two other categories of Indian ancestors.

Just under two-thirds descend from Indian women who, between 1839 and 1870, married men who had recently come to the region of Fort Nisqually in Pierce County and Cowlitz Prairie in Lewis County, most as employees of the Hudson’s Bay Company (HBC). The petition asserted that these Indian women were Steilacoom and that they maintained their Steilacoom tribal affiliation. Contemporary records did not verify this assertion. Their children and grandchildren described them variously as Nisqually, Puyallup, Cowlitz, Clallam, Chimacum, Quinault, Duwamish, Skokobish, Yakima, and Snohomish in affidavits made between 1910 and 1918. None of these affidavits described an ancestress as Steilacoom.

The other one-third of the STI members with documented Indian ancestry trace their lineage to Canadian Indian tribes through Red River metis families from Manitoba. The petition asserted that these Red River families were adopted, sometimes by way of intermarriage, into a continuously existing Steilacoom tribe during the second half of the 19th century. However, the few documented intermarriages did not take place between Red River immigrants and Steilacoom Indians. Rather, they took place between Red River immigrants and the non-Steilacoom Indian/HBC descendant families described above.

The identified STI ancestral family lines can all be documented to the mid-19th century, but the limited documentation available concerning the claims organization did not indicate that a significant proportion of the families were associated with the Steilacoom claims organization of the 1920’s and 1930’s. The family lines adopted into the STI in the 1950’s included families whose Indian ancestry was Cowlitz, Cowlitz/Quinault, Lummi, Red River, and Colville, and who were previously unconnected with one another. Thus, although the petitioner’s membership consists of Indian descendants, it does not consist of “individuals who descend from a historical Indian tribe or from historical Indian tribes which combined and functioned as a single autonomous entity.” The STI does not meet criterion 83.7(e).

Criterion 83.7(f) states that the petitioner’s membership must be composed principally of persons who are not members of any acknowledged North American Indian tribe. The STI meets criterion 83.7(f).

Criterion 83.7(g) states that neither the petitioner nor its members can have been the subject of congressional legislation that has expressly terminated or forbidden the Federal relationship. The STI meets criterion 83.7(g).

Based on this preliminary factual determination, the Steilacoom Tribe of Indians should not be granted Federal acknowledgment under 25 CFR Part 83.

As provided by 25 CFR 83.10(h) of the revised regulations, a report summarizing the evidence, reasoning, and analyses that are the basis for the proposed decision will be provided to the petitioner and other interested parties, and is available to other parties upon written request. Comments on the proposed finding and/or requests for a copy of the report of evidence should be addressed to the Office of the Assistant Secretary—Indian Affairs, Bureau of Indian Affairs, 1849 C Street, N.W., Washington, D.C. 20240, Attention: Branch of Acknowledgment and Research, Mail Stop 4660-MIB. Comments on the proposed finding should be submitted within 180 calendar days from the date of publication of this notice. Third party comments must be provided to the petitioner as well as to the Federal Government. After the close of the 180-day comment period, the petitioner has 60 calendar days to respond to third-party comments.

After the expiration of the comment and response periods described above, the BIA will consult with the petitioner concerning establishment of a time frame for preparation of the final determination. After consideration of the written arguments and evidence rebutting the proposed finding and within 60 days after beginning preparation of the final determination, the Assistant Secretary—Indian Affairs will publish the final determination of the petitioner’s status in the Federal Register as provided in 25 CFR 83.10(1).

Dated: January 14, 2000.
Kevin Gover,
Assistant Secretary—Indian Affairs.

[FR Doc. 00-2635 Filed 2-4-00; 8:45 am]

BILLING CODE 4310-02-P